DEPARTMENT OF LABOR

Employment and Training Administration

[NAFTA-5712]

Crown, Cork & Seal Packaging Company, Inc., Plant #77, South Connellsville, PA; Amended Certification Regarding Eligibility To Apply for NAFTA—Transitional Adjustment Assistance

In accordance with Section 250(a), Subchapter D, Chapter 2, Title II, of the Trade Act of 1974, as amended (19 USC 2273), the Department of Labor issued a Certification of Eligibility to Apply for NAFTA Transitional Adjustment Assistance on May 8, 2002, applicable to workers at Crown, Cork & Seal Packaging Company, Inc., Plant #77, located in South Connellsville, Pennsylvania. The notice was published in the Federal Register on May 17, 2002 (67 FR 15227).

At the request of the State agency, the Department reviewed the certification for workers of the subject firm. The workers are engaged in employment related to the production of metal/paper and plastisol lined closures. The review of the TAA petition investigation revealed that workers of Crown, Cork & Seal Packaging Company, Inc., Plant #77, South Connellsville, Pennsylvania, were previously certified eligible to apply for NAFTA-TAA under petition number NAFTA-3583, which expired January 19, 2002.

In order to avoid an overlap in worker group coverage, the Department is amending this certification to change the impact date from January 4, 2001 to January 20, 2002.

The amended notice applicable to NAFTA-5712 is hereby issued as follows:

All workers engaged in activities related to the production of metal/paper and plastisol lined closures at Crown, Cork & Seal Packaging Company, Inc., Plant #77, South Connellsville, Pennsylvania, who became totally or partially separated from employment on or after January 20, 2002, through May 8, 2004, are eligible to apply for NAFTA-TAA under Section 250 of the Trade Act of 1974.

Signed in Washington, DC this 10th day of June 2002.
Linda G. Poole,
Certifying Officer, Division of Trade Adjustment Assistance.

[FR Doc. 02-15755 Filed 6-20-02; 8:45 am]

BILLING CODE 4510-30-P